DEPARTMENT OF LABOR

Proposed Information Collection for Workforce Innovation in Regional Economic Development (WIRED) Initiative Evaluation; Comment Request

AGENCY: Employment and Training Administration, Labor.

ACTION: Notice.

SUMMARY: The Department of Labor, as part of its continuing effort to reduce paperwork and respondent burden conducts a preclearance consultation program to provide the general public and federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments on a new data collection for the Workforce Innovation in Regional Economic Development (WIRED) Initiative Evaluation.

A copy of the proposed information collection request (ICR) can be obtained by contacting the office listed below in the addressee section of this notice or by accessing: http://www.doleta.gov/OMBCN/OMBControlNumber.cfm.

DATES: Written comments must be submitted to the office listed in the addressee's section below on or before May 30, 2008.

ADDRESSES: Submit written comments to the Employment and Training Administration, Room N-5641, 200 Constitution Avenue, NW., Washington, DC 20210, Attention: Eileen Pederson Telephone number: 202-693-3647 (this is not a toll-free number). Fax: 202-693-2766. E-mail: Pederson.eileen@dol.gov.

SUPPLEMENTARY INFORMATION:

I. Background

In February 2006, under authority of section 414 of the American Competitiveness and Workforce Improvement Act of 1998, the Employment and Training Administration (ETA) awarded grants to 13 regions across the United States to support community efforts to link their varied knowledge resources with their business and innovation assets, and to ensure that their workforces have the skills and knowledge required to work effectively in new and emerging industries. In addition to grant funds, each of these grantees, collectively known as Generation I regions, is also eligible to receive access to ongoing technical assistance provided directly and indirectly from ETA. At the same time that these grants were awarded, ETA selected another 13 regions to receive $100,000 to support their participation in peer-to-peer grantee conferences (known as WIRED Academies) and other learning opportunities. In early 2007, ETA increased the funds awarded to these regions, at which time they became known as the Generation II regions. Finally, in June 2007, ETA awarded grants to 13 more regions, known as the Generation III regions.

The WIRED Initiative focuses on labor market areas that are comprised of multiple jurisdictions within states or across state borders. It supports innovative approaches to workforce development, training and education that go beyond traditional strategies for preparing workers to compete and succeed both within the United States and globally. Through the initiative and with support and guidance from their state Governors, WIRED regions have a unique opportunity to design and implement strategic approaches for coordinated regional economic development and job growth. For the grant awards, ETA selected regions that demonstrated the presence of labor market elements (unemployment, low-wages, low levels of new job creation) and economic conditions (such as industries that are declining or industries targeted for growth) that are driving the need for transformation. In addition, each grant recipient described how the region will: Implement new strategic efforts designed to drive integration among workforce, economic development and education systems; promote innovation in addressing challenges; and utilize and build upon existing structures, resources and legislatively-funded programs. Finally, each region outlined the presence of a strategic partnership that is representative of the entire economic region and is comprised of a strong team of regional leaders which will lead the regional transformation.

This data collection covers qualitative information to be obtained through on-site, unstructured interviews with representatives in each WIRED region. Data to be collected includes information regarding the regional context, goals, planning, structure, partnerships, collaboration, activities, funding, challenges, innovations, approaches for measuring success, and sustainability.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Type of Review: New.

Agency: Employment and Training Administration.

Title: Workforce Innovation in Regional Economic Development (WIRED) Initiative Evaluation.

OMB Number: 1205-0NEW.

Record Keeping: NA.

Affected Public: State, local, or tribal government; business or other for-profit; and not-for-profit institutions.

Total Respondents: Approximately 2,400.

Frequency: The unstructured interviews will be conducted annually, for two years, per Generation of regions, per following table.

Year | Group of regions | Number of respondents | Total responses | Average time per response (min) | Annual burden (hrs)
2008 | Generation 1 | 800 | 800 | 45 | 600
2009 | Generation 1 | 800 | 800 | 45 | 1,800
| Generation 2 | 800 | 800 | 45 |
| Generation 3 | 800 | 800 | 45 |
2010 | Generation 2 | 800 | 800 | 45 | 1,200
| Generation 3 | 800 | 800 | 45 |
3 year Total | 4,800 | 4,800 |  | 3,600

Total Annual Responses: An average of approximately 1,600.

Average Time per Response: 45 minutes per interview.

Estimated Total Burden Hours: The total annual burden hours is estimated to be 1,200 hours.

Total Burden Cost: Varies per year, per following table.

Year | Group of regions | Annual burden (hrs) | Average cost per hour | Annual burden cost
2008 | Generation 1 | 600 | $36 | $21,600
2009 | Generation 1 | 600 | 36 | 64,800
| Generation 2 | 600 | 36 |
| Generation 3 | 600 | 36 |
2010 | Generation 2 | 600 | 36 | 43,200
| Generation 3 | 600 | 36 |
Total |  | 3,600 |  | 129,600

The cost to regional representatives to participate in the unstructured interviews, based on an annual average salary of $75,000 per representative, is approximately $129,600.

Comments submitted in response to this comment request will be summarized and/or included in the request for Office of Management and Budget approval of the information collection request; they will also become a matter of public record.

Dated: March 26, 2008.
Thomas M. Dowd,
Administrator, Office of Policy Development and Research, Employment and Training Administration.

[FR Doc. E8-6549 Filed 3-28-08; 8:45 am]

BILLING CODE 4510-FN-P